DEPARTMENT OF LABOR

Occupational Safety and Health Administration

[Docket No. OSHA-2010-0004]

OSHA Listens: Occupational Safety and Health Administration Stakeholder Meeting

AGENCY: Occupational Safety and Health Administration (OSHA), Labor.

ACTION: Notice of public meeting.

SUMMARY: The Occupational Safety and Health Administration (OSHA) is announcing a public meeting to solicit comments and suggestions from stakeholders on key issues facing the agency.

DATES: The public meeting will be held on February 10, 2010, from 9 a.m. to 5 p.m. Persons interested in attending the meeting must register by February 3, 2010. In addition, comments relating to the “Scope of Meeting” section of this document must be submitted in written or electronic form by March 30, 2010.

ADDRESSES: The public meeting will be held at the Frances Perkins Building Auditorium, U.S. Department of Labor, 200 Constitution Avenue, NW., Washington, DC 20210.

Submit written comments to the OSHA Docket Office, Docket No. OSHA-2010-0004, Technical Data Center, Room N-2625, U.S. Department of Labor, 200 Constitution Avenue, NW., Washington, DC 20210; telephone (202) 693-2350. Submit electronic comments by e-mail to: stakeholder.meeting@dol.gov. All comments should be identified with Docket No. OSHA-2010-0004.

Registration To Attend and/or To Participate in the Meeting: If you wish to attend the public meeting and/or make an oral presentation at the meeting, you must register by e-mail to: stakeholder.meeting@dol.gov by close of business on February 3, 2010. When registering, you must provide the following information: (1) Your name, title, company or organization (if applicable), address, phone number and e-mail address, and (2) if you wish to make a short presentation, the specific topic or issue to be addressed. Actual times provided for presentation will depend on the number of requests. There is no fee to register for the public meeting. Registration on the day of the public meeting will be permitted on a space-available basis beginning at 8:30 a.m.

We will do our best to accommodate all persons who wish to make a presentation at the meeting. OSHA encourages persons and groups having similar interests to consolidate their information for presentation through a single representative. After reviewing the requests to present, we will contact each participant prior to the meeting with the amount of time available and the approximate time that the participant's presentation is scheduled to begin. Presenters must then send the final electronic copies of their presentations in Microsoft Word or Adobe Portable Document Format (PDF) to: stakeholder.meeting@dol.gov by February 8, 2010.

FOR FURTHER INFORMATION CONTACT: For further information please contact Cori Hutcheson, Office of the Assistant Secretary, Occupational Safety and Health Administration, 200 Constitution Avenue, NW., Washington, DC 20210; telephone: 202-693-2507; fax: 202-693-1659; e-mail: stakeholder.meeting@dol.gov. Individuals with disabilities wishing to attend the meeting should contact Veneta Chatmon at (202) 693-1912, by February 3, 2010, to obtain appropriate accommodations.

SUPPLEMENTARY INFORMATION:

I. Background

The Occupational Safety and Health Administration is committed to ensuring safe workplaces for workers, and that the agency's efforts are effective, efficient and reflect the real world experiences of the workplace.

Public engagement in the work of Government is a priority for the Obama Administration and is important to enhance the work of OSHA. On January 21, 2009, President Obama issued a Memorandum to the heads of executive departments and agencies regarding openness in government.¹ In the Memorandum, the Administration noted that government should be participatory: “Public engagement enhances the Government's effectiveness and improves the quality of its decisions. Knowledge is widely dispersed in society, and public officials benefit from having access to that dispersed knowledge.”

¹ Presidential Documents, Memorandum for the Heads of Executive Departments and Agencies on Transparency and Open Government (January 21, 2009) (74 FR 4685, January 26, 2009), available at: http://www.whitehouse.gov/the_press_office/TransparencyandOpenGovernment/.

Executive agencies were instructed to offer Americans increased opportunities to participate in policymaking and to provide their Government with the benefits of their collective expertise and information. The Memorandum further instructed Executive agencies to solicit public input on how we can increase and improve opportunities for public participation in Government.

On December 8, 2009, the Office of Management and Budget (OMB) issued an Open Government Directive,² directing the heads of Executive departments and agencies to take specific actions to implement the principles of transparency, participation and collaboration set forth in the President's Memorandum. Regarding the principle of participation, OMB Director, Peter R. Orszag, directed agencies to “promote opportunities for the public to participate throughout the decision-making process”.

² Presidential Document, Memorandum for the Heads of Executive Departments and Agencies, entitled Open Government Directive (December 8, 2009), may be found at: http://www.whitehouse.gov/omb/assets/memoranda_2010/m10-06.pdf.

In keeping with the Presidential Memorandum and the OMB Directive, OSHA is holding a public meeting and establishing a public docket to seek input from interested parties. OSHA LISTENS, the public meeting to solicit input from interested stakeholders, will be held on February 10, 2010.

II. Scope of Meeting

OSHA is interested in obtaining information from the public on key issues facing the agency. In particular, the agency invites input on the following:

1. What can the agency do to enhance and encourage the efforts of employers, workers and unions to identify and address workplace hazards?

2. What are the most important emerging or unaddressed health and safety issues in the workplace, and what can OSHA do to address these?

3. How can the agency improve its efforts to engage stakeholders in programs and initiatives?

4. What specific actions can the agency take to enhance the voice of workers in the workplace, particularly workers who are hard to reach, do not have ready access to information about hazards or their rights, or are afraid to exercise their rights?

5. Are there additional measures to improve the effectiveness of the agency's current compliance assistance efforts and the on site consultation program, to ensure that small businesses have the information needed to provide safe workplaces?

6. Given the length and difficulty of the current OSHA rulemaking process, and given the need for new standards that will protect workers from unaddressed, inadequately addressed and emerging hazards, are there policies and procedures that will decrease the time to issue final standards so that OSHA may implement needed protections in a timely manner?

7. As we continue to progress through a new information age vastly different from the environment in which OSHA was created, what new mechanisms or tools can the agency use to more effectively reach high risk employees and employers with training, education and outreach? What is OSHA doing now that may no longer be necessary?

8. Are there indicators, other than worksite injuries and illness logs, that OSHA can use to enhance resource targeting?

9. In the late 1980s, OSHA and its stakeholders worked together to update the Permissible Exposure Limits (PELs) (exposure limits for hazardous substances; most adopted in 1971), but the effort was unsuccessful. Should updating the PELs be a priority for the agency? Are there suggestions for ways to update the PELs, or other ways to control workplace chemical exposures?

III. Request for Comments

Regardless of attendance at the public meeting, interested persons may submit written or electronic comments (see ADDRESSES). Submit a single copy of electronic comments or two paper copies of any mailed comments, except that individuals may submit one paper copy To permit time for interested persons to submit data, information, or views on the issues in the “Scope of Meeting” section of this notice, submit comments by March 30, 2010. When commenting on multiple issues, identify each comment using the number of the issue as provided in the “Scope of Meeting” section of this notice. Please include Docket No. OSHA-2010-0004. Comments received may be seen in the U.S. Department of Labor, OSHA Docket Office, (see ADDRESSES), between 8:15 a.m. and 4:45 p.m., Monday through Friday. OSHA is also exploring additional electronic means for the public to provide comments and feedback on this topic.

IV. Transcripts

Transcripts of the meeting will be available for review approximately 30 days after the meeting at: http://www.osha.gov and at U.S. Department of Labor, OSHA Docket Office (see ADDRESSES).

Signed in Washington, DC, on January 13, 2010.
David Michaels,
Assistant Secretary of Labor for Occupational Safety and Health.

[FR Doc. 2010-814 Filed 1-15-10; 8:45 am]

BILLING CODE 4510-26-P